DEPARTMENT OF HEALTH AND HUMAN SERVICES

Centers for Disease Control and Prevention

[30Day-25-24HD]

Agency Forms Undergoing Paperwork Reduction Act Review

In accordance with the Paperwork Reduction Act of 1995, the Centers for Disease Control and Prevention (CDC) has submitted the information collection request titled “Adverse Health Outcomes Associated with Medical Tourism Surveillance System” to the Office of Management and Budget (OMB) for review and approval. CDC previously published a “Proposed Data Collection Submitted for Public Comment and Recommendations” notice on August 9, 2024 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Adverse Health Outcomes Associated With Medical Tourism Surveillance System—New—National Center for Emerging and Zoonotic Infectious Diseases (NCEZID), Centers for Disease Control and Prevention (CDC)

Background and Brief Description

Millions of Americans travel abroad each year to get medical care. This practice of medical tourism is increasing, with even some U.S.-based health insurance companies sending patients abroad for medical care. Medical tourism has been associated with a variety of adverse health outcomes including serious infection, importation of antibiotic-resistant pathogens to the United States, and death.

Outbreaks among medical tourists can be difficult to identify for many reasons. Complications from treatment(s) and procedure(s) obtained abroad are underreported by U.S. healthcare facilities. Jurisdictions throughout the United States have varying policies on reporting medical tourism-related adverse health events to CDC that can lead to underreporting from some jurisdictions. Infections acquired from health care abroad may not be locally or nationally reportable. There is no national surveillance system or mechanism for states to link cases between jurisdictions for medical tourism-related adverse health outcomes. This makes it difficult to identify patients with exposures linked to the same clinic or provider abroad since they will be returning to different parts of the United States. Collaboration with state and local health departments is essential to detect outbreaks, and as a federal entity, CDC can fulfill this role. The information collected through this surveillance will help CDC detect outbreaks and trends in cases to identify prevention measures and improve awareness of risks associated with medical tourism. State and local health departments will conduct surveys and send them electronically to CDC. Data will be stored in an electronic database and extracted for further analysis.

CDC requests OMB approval for an estimated 438 annual burden hours. There is no cost to respondents other than their time to participate.

Estimated Annualized Burden Hours
Type of respondents | Form name | Number of respondents | Number of responses per respondent | Average burden per response (in hours)
State/Local Health department staff | Form 1 Medical Tourism Case Intake Form (Part B—Medical Chart Abstraction) | 50 | 15 | 5/60
Ill persons who have experienced an adverse health outcome related to medical tourism | Form 1 Medical Tourism Case Intake Form (Part A—Interviews) | 750 | 1 | 10/60
Ill persons who have experienced an adverse health outcome related to medical tourism | Form 2 Medical Tourism Enhanced Surveillance Form | 500 | 1 | 0.5

Jeffrey M. Zirger,
Lead, Information Collection Review Office, Office of Public Health Ethics and Regulations, Office of Science, Centers for Disease Control and Prevention.

[FR Doc. 2025-13509 Filed 7-17-25; 8:45 am]

BILLING CODE 4163-18-P